DEPARTMENT OF THE TREASURY

Office of the Comptroller of the Currency

[Docket ID OCC-2020-0022]

Mutual Savings Association Advisory Committee

AGENCY: Office of the Comptroller of the Currency (OCC), Department of the Treasury.

ACTION: Notice of Federal Advisory Committee meeting.

SUMMARY: The OCC announces a meeting of the Mutual Savings Association Advisory Committee (MSAAC).

DATES: A public meeting of the MSAAC will be held on Monday, June 29, 2020, via webinar, beginning at 1:00 p.m. Eastern Daylight Time (EDT).

ADDRESSES: The OCC will hold the June 29, 2020 meeting of the MSAAC via webinar.

FOR FURTHER INFORMATION CONTACT: Michael R. Brickman, Deputy Comptroller for Thrift Supervision, (202) 649-5420, Office of the Comptroller of the Currency, Washington, DC 20219.

SUPPLEMENTARY INFORMATION: By this notice, the OCC is announcing that the MSAAC will convene a meeting on Monday, June 29, 2020, via webinar. The meeting is open to the public and will begin at 1:00 p.m. EDT. The purpose of the meeting is for the MSAAC to advise the OCC on regulatory or other changes the OCC may make to ensure the health and viability of mutual savings associations. The agenda includes a discussion of current topics of interest to the industry.

Members of the public may submit written statements to the MSAAC. The OCC must receive written statements no later than 5:00 p.m. EDT on Monday, June 22, 2020. Members of the public may submit written statements to MSAAC@occ.treas.gov.

Members of the public who plan to attend the meeting via webinar should contact the OCC by 5:00 p.m. EDT on Monday, June 22, 2020, to inform the OCC of their desire to attend the meeting and to obtain information about participating in the meeting. Members of the public may contact the OCC via email at MSAAC@OCC.treas.gov or by telephone at (202) 649-5420. Members of the public who are hearing impaired should call (202) 649-5597 (TTY) by 5:00 p.m. EDT on Monday, June 22, 2020, to arrange auxiliary aids for this meeting.

Attendees should provide their full name, email address, and organization, if any.

Brian P. Brooks,
Acting Comptroller of the Currency.

[FR Doc. 2020-12347 Filed 6-5-20; 8:45 am]

BILLING CODE 4810-33-P